DEPARTMENT OF DEFENSE

GENERAL SERVICES ADMINISTRATION

NATIONAL AERONAUTICS AND SPACE ADMINISTRATION

[OMB Control No. 9000-0157; Docket 2017-0053; Sequence 6]

Information Collection; Architect-Engineer Qualifications (Standard Form 330)

AGENCY: Department of Defense (DOD), General Services Administration (GSA), and National Aeronautics and Space Administration (NASA).

ACTION: Notice of request for public comments regarding an extension to an existing OMB clearance.

SUMMARY: Under the provisions of the Paperwork Reduction Act, the Regulatory Secretariat Division (MVCB) will be submitting to the Office of Management and Budget (OMB) a request to review and approve an extension of a previously approved information collection requirement for the Architect-Engineer Qualifications form (SF 330).

DATES: Submit comments on or before June 12, 2017.

ADDRESSES: Submit comments identified by Information Collection 9000-0157 by any of the following methods:

• Regulations.gov: http://www.regulations.gov. Submit comments via the Federal eRulemaking portal by searching the OMB control number 9000-0157. Select the link “Comment Now” that corresponds with “Information Collection 9000-0157”. Follow the instructions provided on the screen. Please include your name, company name (if any), and “Information Collection 9000-0157” on your attached document.

• Mail: General Services Administration, Regulatory Secretariat Division (MVCB), 1800 F Street NW., Washington, DC 20405. ATTN: Ms. Sosa/IC 9000-0157.

Instructions: Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Curtis E. Glover Sr. Procurement Analyst, Contract Policy Division, GSA, at 202-501-1448, or email Curtis.glover@gsa.gov.

SUPPLEMENTARY INFORMATION:

A. Purpose

Federal agencies use the Standard Form (SF) 330 to obtain information from architect-engineer (A-E) firms about their professional qualifications. Federal agencies select firms for A-E contracts on the basis of professional qualifications as required by 40 U.S.C. Chapter 11, Selection of Architects Engineers, and Part 36 of the Federal Acquisition Regulation (FAR).

SF 330, Part I is used by all executive agencies to obtain information from architect-engineer firms interested in a particular project. The information on the form is reviewed by a selection panel to assist in the selection of the most qualified architect-engineer firm to perform the specific project. The form is designed to provide a uniform method for architect-engineer firms to submit information on experience, personnel, and capabilities of the architect-engineer firm to perform, along with information on the consultants they expect to collaborate with on the specific project.

SF 330, Part II is used by all executive agencies to obtain general uniform information about a firm's experience in architect-engineering projects. Architect-engineer firms are encouraged to update the form annually. The information obtained on this form is used to determine if a firm should be solicited for architect-engineer projects.

B. Annual Reporting Burden

Respondents: 5,000.

Responses per Respondent: 4.

Total Responses: 20,000.

Hours per Response: 29.

Total Burden Hours: 580,000.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405. Please cite OMB Control No. 9000-0157, Architect-Engineer Qualifications (SF 330), in all correspondence.

Dated: April 6, 2017.
Lorin S. Curit,
Director, Federal Acquisition Policy Division, Office of Governmentwide Acquisition Policy, Office of Acquisition Policy, Office of Governmentwide Policy.

[FR Doc. 2017-07330 Filed 4-11-17; 8:45 am]

BILLING CODE 6820-EP-P